SURFACE TRANSPORTATION BOARD

[Docket No. EP 290 (Sub-No. 4)]

Railroad Cost Recovery Procedures—Productivity Adjustment

AGENCY: Surface Transportation Board.

ACTION: Proposed railroad cost recovery procedures productivity adjustment.

SUMMARY: In a decision served on February 8, 2018, the Board proposed to adopt 0.996 (−0.4% per year) as the measure of average (geometric mean) change in railroad productivity for the 2012-2016 (five-year) period. This represents an increase of 0.3% from the average for the 2011-2015 period. The Board's February 8, 2018 decision in this proceeding stated that comments may be filed addressing any perceived data and computational errors in the Board's calculation. It also stated that, if there were no further action taken by the Board, the proposed productivity adjustment would become effective on March 1, 2018.

DATES: The productivity adjustment is effective March 1, 2018. Comments are due by February 23, 2018.

ADDRESSES: Send comments (an original and 10 copies) referring to Docket No. EP 290 (Sub-No. 4) to: Surface Transportation Board, 395 E Street SW, Washington, DC 20423-0001.

FOR FURTHER INFORMATION CONTACT: Michael Smith, (202) 245-0322. Federal Information Relay Service (FIRS) for the hearing impaired, (800) 877-8339.

SUPPLEMENTARY INFORMATION: Additional information is contained in the Board's decision, which is available on the Board's website at http://www.stb.gov. Copies of the decision may be purchased by contacting the Board's Office of Public Assistance, Governmental Affairs, and Compliance at (202) 245-0236.

Decided: February 7, 2018.
By the Board, Board Members Begeman and Miller.
Jeffrey Herzig,
Clearance Clerk.

[FR Doc. 2018-02888 Filed 2-12-18; 8:45 am]

BILLING CODE 4915-01-P